EXPORT-IMPORT BANK

Sunshine Act Meetings

Notice of Open Meeting of the Advisory Committee and Sub-Saharan Africa Advisory Committees of the Export-Import Bank of the United States (EXIM)

TIME AND DATE: Monday, August 12th, 2024 from 1:00-2:30 p.m. EDT.

A joint meeting of the EXIM Advisory Committee, Sub-Saharan Africa Advisory Committee, and EXIM Advisory Councils.

PLACE:

Microsoft Teams: The meeting will be held virtually for committee and council members, EXIM's Board of Directors, support staff, and all other participants.

Registration and Public Comment: Virtual Public Participation: The meeting will be open to public participation virtually and time will be allotted for questions or comments submitted online. Members of the public may also file written statements before or after the meeting to advisory@exim.gov.

Interested parties may register for the meeting at: https://events.teams.microsoft.com/event/4902a560-9057-4c4c-ade3-471b15dd7b56@b953013c-c791-4d32-996f-518390854527.

MATTERS TO BE CONSIDERED: Discussion of EXIM policies and programs to provide competitive financing to expand United States exports and comments for inclusion in EXIM's Report to the U.S. Congress on Global Export Credit Competition.

CONTACT PERSON FOR MORE INFORMATION: For further information, contact India Walker, Senior External Engagement Specialist, at 202-480-0062 or india.walker@exim.gov.

SUPPLEMENTARY INFORMATION: The Advisory Committee has been established as directed by Section 3(d) of the Export-Import Bank Act of 1945 (the “Act”), 12 U.S.C. 635a(d)(1)(A). This Advisory Committee is chartered in accordance with the Federal Advisory Committee Act (“FACA”), 5 U.S.C. App.

India A. Walker,
Senior External Engagement Specialist, Office of External Engagement.

[FR Doc. 2024-16900 Filed 7-26-24; 4:25 pm]

BILLING CODE 6690-01-P